DEPARTMENT OF EDUCATION

Applications for New Awards; First in the World Program—Development Grants

AGENCY: Office of Postsecondary Education, Department of Education.

ACTION: Notice.

Overview Information

Fund for the Improvement of Postsecondary Education (FIPSE)—First in the World Program (FITW)—Development Grants Notice inviting applications for new awards for fiscal year (FY) 2014.

Catalog of Federal Domestic Assistance (CFDA) Number: 84.116F.

DATES:

Applications Available: May 16, 2014.

Deadline for Transmittal of Applications: June 30, 2014.

Deadline for Intergovernmental Review: August 29, 2014.

Full Text of Announcement

I. Funding Opportunity Description

Purpose of Program: The President has set a clear goal for the Nation's education system. By 2020 the United States will once again lead the world in the proportion of its citizens holding college degrees or other postsecondary credentials. To support this national effort the Department of Education has outlined a comprehensive education agenda that includes expanding quality and opportunity at all levels of education from early learning programs through higher education. The FITW Program is a key part of this agenda.

Last August, President Obama outlined an ambitious plan to improve value and affordability in postsecondary education. The plan included: Paying for performance, developing a college ratings system; promoting innovation and competition; and ensuring affordable debt. The President noted that the federal government can act as a catalyst for innovation, spurring innovation in a way that drives down costs while preserving quality. Innovations can take many forms, such as those that improve teaching and learning by redesigning courses and student supports, or by leverage learning science and technological developments. FITW aims to support a wide range of innovations at colleges and universities, and serve as a catalyst for the best ideas that will dramatically enhance student outcomes.

The FITW program will build on all of these important Administration priorities by providing grants to institutions of higher education to spur the development of innovative approaches and strategies that will improve postsecondary educational access and outcomes. The FITW program plays a key role in the President's plan to make college more affordable for students and families, as it aims to develop an evidence base of effective practices for ensuring that more students can access, persist in, and complete postsecondary study. Successful FITW projects will support greater college affordability for students, through the implementation and evaluation of practices and strategies that have the potential to reduce costs while delivering high-quality academic programs to students. Institutions of higher education or consortia of such institutions are eligible applicants for FITW grants. We encourage applicants to partner with public and private institutions and agencies that can assist applicants to achieve the goals of their projects.

The FY 2014 budget for FITW is $75,000,000, with up to $20,000,000 set aside for Minority-Serving Institutions (MSIs). There will be one competition with one set of priorities and one set of selection criteria. We will consider an institution as an MSI for purposes of this competition if the institution meets the qualifications for an MSI as described in the application package and the institution certifies that it meets those qualifications through the application. Institutions of higher education may only submit one application and may only be awarded one grant.

Successful FITW projects will include the following characteristics: (1) A project design supported by Strong Theory (as defined in this notice); (2) a data collection plan; (3) a design and implementation plan for evaluation that will demonstrate whether the strategies implemented are showing Moderate Evidence of Effectiveness (as defined in this notice); (4) replicable and scalable reform strategies; (5) a strong focus on improved postsecondary access, affordability, and completion, with an emphasis on low-income students; and (6) a strategy for improvement of postsecondary productivity and effectiveness that holds steady or decreases costs for students.

The FITW competition embraces the President's call for institutions of higher education to propose their best and most promising ideas to significantly expand access, affordability, and improve outcomes for students. The absolute priorities of the FITW competition are structured to elicit a wide array of innovative proposals from a diversity of institutions of higher education, focused around these three pillars of access, affordability, and attainment. Many institutions across the country have already demonstrated significant interest in and/or adopted innovative approaches to teaching and learning that aim to obtain better outcomes for students, including promising practices that accelerate the pace and success rate for students in need of remediation moving into credit-bearing coursework and toward a degree or credential; approaches like competency-based education that measure progression based on learning rather than just seat time; dual-enrollment strategies and early college high schools that allow high school students to earn credit before arriving at college; establishing open degree pathways that are offered at low- or no-cost to students in fields that focus on the education and skills employers are seeking, and that have the potential to deliver high-quality learning experiences and outcomes while significantly expanding postsecondary educational access and opportunity; and redesigned courses and programs of study that improve student learning at lower costs than traditional courses. The Department welcomes the submission of all ideas and proposals (including but not limited to the aforementioned examples) and encourages institutions of higher education to put forward their most innovative and creative thinking to significantly expand postsecondary opportunity for all students, especially those who are low-income, underprepared for, or underrepresented in higher education.

FITW is designed as a tiered evidence grant program in which higher levels of evidence supporting the proposed projects are required in order to receive greater amounts of funding across multiple evidence tiers. In future years, the Department anticipates conducting competitions to support projects under higher tiers of evidence. However, in FY 2014, the Department will run only one competition in one evidence tier for Development grants. FITW projects should be novel and significant nationally, not projects that simply implement existing practices in additional locations or support needs that are primarily local in nature. A key goal of FITW Development grants is to expand the research on innovative practices that can be used to support future competitions with higher evidence standards.

To be eligible for an award, an application for a FITW Development grant must be supported by a Strong Theory (as defined in this notice) and the applicant must submit a logic model (as defined in this notice) for its proposed project. Applicants may submit a rationale for any intervention(s) that has not been tried or that only has been marginally considered and explored at the applicant institution or elsewhere.

Priorities: This notice includes five absolute priorities and one competitive preference priority.

We are establishing these priorities for the FY 2014 FITW competition and any subsequent year in which we make awards from the list of unfunded applicants from this competition in accordance with section 437(d)(1) of the General Education Provisions Act (GEPA), 20 U.S.C. 1232(d)(1).

Absolute Priorities: These priorities are absolute priorities. Under 34 CFR 75.105(c)(3), we consider only applications that address one of the five absolute priorities. The Department encourages applicants to select an absolute priority that is commensurate with implementing well-defined reforms that can be thoroughly studied and described in detail, and that has the potential to be replicated. The Joint Explanatory Statement accompanying the Consolidated Appropriations Act of 2014, Public Law 113-76, specifies that, in carrying out the FITW competition the Department is expected to prioritize applications that target innovative strategies for low-income students. Applicants must specify on the Abstract and Information page which absolute priority is addressed in the application.

The five absolute priorities are:

Absolute Priority I—Increasing Access and Completion for Underrepresented, Underprepared, or Low-Income Students

Background

The proportion of Americans earning postsecondary credentials is unacceptably low, particularly among low-income, underrepresented, and underprepared students. Substantial college completion gaps persist among underrepresented, underprepared, or low-income students and their peers. Reports from (NCES) consistently indicate that students from higher-income families are more likely to finish postsecondary programs of study than lower-income students. We must both increase the number of low-income, underprepared, or underrepresented students (including students with disabilities) enrolling in postsecondary education and increase the rates at which they complete. The purpose of this priority is to ensure that FITW grants will implement and demonstrate reforms and strategies that leverage innovative approaches to yield a measurable impact on student persistence and completion.

Priority

This priority supports projects that will improve the effectiveness of interventions for a target student population made up of underrepresented, underprepared or low-income students that would result in measurable increases in the number of students from those populations who enroll and persist in postsecondary education, and complete their postsecondary degree, credential, or certificate; or that would implement a broader system-wide design that would have positive effects on all students including underrepresented, underprepared, and low income students. If the target group of the proposed project is all students at an institution or consortia of institutions, applicants must explain why the approach is expected to have positive impacts on underrepresented, underprepared, and low-income student subpopulations and must show that they can track outcomes for these specific student subpopulations. Consistent with this priority, applicants may also submit projects that will advance positive impacts and outcomes for students with disabilities.

Absolute Priority II—Increasing Community College Transfer Rates to Four-Year Colleges for Underrepresented, Underprepared, or Low-Income Students

Background

Community colleges play a major role in higher education. Successful transfer of students from two-year to four-year institutions is a key function community colleges perform that contributes to the nation's overall bachelor degree attainment. The pressure of tuition increases, escalating costs for books and materials, and the decline of State support for higher education has resulted in growing enrollments at community colleges and a greater need for strategies to facilitate a seamless transfer of students from two-year to four-year institutions.

Priority

This priority supports projects that will implement new and substantially different strategies for increasing transfer rates between two-year and four-year institutions.

Absolute Priority III—Increasing Enrollment and Completion of Underrepresented, Underprepared, or Low-Income Students in Science, Technology, Engineering, and Mathematics (STEM) Degree and Certificate Programs

Background

This absolute priority focuses on increasing enrollments and completion rates for students from groups historically underrepresented in STEM, including minorities and women. Recent trends in undergraduate STEM enrollments show that historically underrepresented students are an increasing fraction of undergraduate students but still disproportionately under-enroll in the STEM disciplines.

Priority

This priority supports projects that will implement new and substantially different strategies to enroll and graduate greater numbers of underrepresented students in STEM fields.

Absolute Priority IV—Reducing Time to Completion, Especially for Underrepresented, Underprepared, or Low-Income Students

Background

This priority focuses on issues of institutional productivity and effectiveness, particularly as they relate to reducing the time it takes to complete a degree, a diploma or a certificate. A growing number of students work full-time or part-time jobs while making progress towards completing their programs of study. Meanwhile, newly-enrolled college students are increasingly assigned to time-consuming, non-credit bearing remediation courses which often derail their path to completion. These and other factors are increasing the length of time it takes to complete a two-year or four-year program. This priority invites institutions to propose innovative approaches to reduce the time it takes for students to complete their program of study.

Priority

This priority supports projects that will develop and implement new strategies to reduce the time it takes to complete a degree for full-time or part-time students. Applicants addressing this priority must propose new and substantially different strategies that reduce time to degree while maintaining high-quality academic programs.

Absolute Priority V—Improving College Affordability, Especially for Underrepresented, Underprepared, or Low-Income Students

Background

It is well known that for many years college tuition has exceeded the rate of inflation. The difference between the cost of attending college and a family's capacity to pay has increased dramatically. Declining state support for higher education has also forced students and families to shoulder a larger proportion of college costs. At the same time there has been a shift toward a greater use of student loans in place of grants to finance college costs. While a college education remains a worthwhile investment, many students now face years of loan payments. Default rates are rising and too many young adults are burdened with debt as they seek to start a family, buy a home, launch a business, or save for retirement.

Priority

This priority supports projects that will develop and implement new and substantially different strategies to contain the cost of education for students and families pursuing higher education.

Competitive Preference Priority: For 2014, this priority is a competitive preference priority. Under 34 CFR 75.105(c)(1), we award any application that meets this competitive preference priority an additional two points. Applicants must clearly mark the Abstract and Information page in the application package if they intend to address this competitive preference priority.

The competitive preference priority is:

Competitive Preference Priority—Using Evidence of Promise as the Application Evidence Standard (2 Points)

Under this priority we support projects that provide supporting evidence that meets the Evidence of Promise definition (as defined in this notice), in addition to meeting the definition of Strong Theory that all applicants must address. Note: An applicant addressing this competitive preference priority must identify up to two study citations that meet this standard. Relevant studies will be reviewed to determine if they meet the What Works Clearinghouse Evidence Standards. The link for the What Works Clearinghouse Procedures and Standards Handbook (Version 2.1, September 2011), can be found at: http://ies.ed.gov/ncee/wwc/references/idocviewer/doc.aspx?docid=19&tocid=1.

The links for the citations submitted for the competitive preference priority must be provided on the Abstract and Information page. Applicants must specify on the Abstract and Information page the findings within the studies that are cited as Evidence of Promise for the proposed project and ensure that the citations and links are from publicly or readily available sources. Studies of fewer than 10 pages may be attached in full under Other Attachments in Grants.gov.

An application will receive two extra points if at least one of the cited studies meets the Evidence of Promise standard and is relevant to the proposed project.

Definitions

Evidence of Promise means there is empirical evidence to support the theoretical linkage(s) between at least one critical component and at least one relevant outcome presented in the logic model for the proposed process, product, strategy, or practice. Specifically, Evidence of Promise means the conditions in paragraph (a) and (b) of this section are met: (a) There is at least one study that is either a (1) correlational study with statistical controls for selection bias; (2) a quasi-experimental design study (as defined in this notice) that meets the What Works Clearinghouse Evidence Standards with reservations; or (3) a randomized controlled trial (as defined in this notice) that meets the What Works Clearinghouse Evidence Standards with or without reservations; and (b) the study referenced in (a) found a statistically significant or substantively important (defined as a difference of 0.25 standard deviations or larger), favorable association between at least one critical component and one relevant outcome presented in the logic model for the proposed process, product, strategy, or practice. The link for the What Works Clearinghouse Procedures and Standards Handbook (Version 2.1, September 2011), can be found at: http://ies.ed.gov/ncee/wwc/references/idocviewer/doc.aspx?docid=19&tocid=1.

Innovation means a process, product, strategy, or practice that improves (or is expected to improve) significantly upon the outcomes reached with status quo options and that can ultimately reach widespread effective usage.

Logic Model (also referred to as a theory of action) means a well-specified conceptual framework that identifies key components of the proposed process, product, strategy, or practice (i.e., the active “ingredients” that are hypothesized to be critical to achieving the relevant outcomes) and describes the relationship among the key components and outcomes, theoretically and operationally.

Moderate Evidence of Effectiveness means the first or the second of the following conditions is met: (1) There is at least one study of the effectiveness of the process, product, strategy, or practice that meets the What Works Clearinghouse Evidence Standards without reservations, found a statistically significant favorable impact on a relevant outcome (with no statistically significant and overriding unfavorable impacts on that outcome for relevant populations in the study or in other studies of the intervention reviewed by and reported on by the What Works Clearinghouse), and includes a sample that overlaps with the populations or settings proposed to receive the process, product, strategy, or practice; or (2) There is at least one study of the effectiveness of the process, product, strategy, or practice being proposed that meets the What Works Clearinghouse Evidence Standard with reservations, found a statistically significant favorable impact on a relevant outcome (with no statistically significant and overriding unfavorable impacts on that outcome for relevant populations in the study or in other studies of the intervention reviewed by and reported on by the What Works Clearinghouse), includes a sample that overlaps with the populations or settings proposed to receive the process, product, strategy, or practice; and includes a large and a multi-site sample. Note: Multiple studies can cumulatively meet the large and multi-site sample requirements as long as each study meets the other requirements in this paragraph. The link for the What Works Clearinghouse Procedures and Standards Handbook (Version 2.1, September 2011), can be found at: http://ies.ed.gov/ncee/wwc/references/idocviewer/doc.aspx?docid=19&tocid=1.

Quasi-experimental Design Study means a study using a design that attempts to approximate an experimental design by identifying a comparison group that is similar to the treatment group in important respects. These studies, depending on design and implementation, can meet What Works Clearinghouse Evidence Standards with reservations (they cannot meet the What Works Clearinghouse Evidence Standards without reservations). The link for the What Works Clearinghouse Procedures and Standards Handbook (Version 2.1, September 2011), can be found at: http://ies.ed.gov/ncee/wwc/references/idocviewer/doc.aspx?docid=19&tocid=1.

Randomized Controlled Trial means a study that employs random assignment of, for example, students, teachers, classrooms, schools, or districts to receive the intervention being evaluated (the treatment group) or not to receive the treatment (the control group). The estimated effectiveness of the intervention is the difference between the average outcome for the treatment group and for the control group. These studies, depending on design and implementation, can meet the What Works Clearinghouse Evidence Standards without reservation. The link for the What Works Clearinghouse Procedures and Standards Handbook (Version 2.1, September 2011), can be found at: http://ies.ed.gov/ncee/wwc/references/idocviewer/doc.aspx?docid=19&tocid=1.

Strong Theory means a rationale for the proposed process, product, strategy, or practice that includes a logic model.

Waiver of Proposed Rulemaking: Under the Administrative Procedure Act (5 U.S.C. 553), the Department generally offers interested parties the opportunity to comment on proposed priorities, definitions, and other requirements. Section 437(d)(1) of GEPA, however, allows the Secretary to exempt from rulemaking requirements, regulations governing the first grant competition under a new or substantially revised program authority. This is the first grant competition for the FITW program under 20 U.S.C. 1138-1138d and therefore qualifies for this exemption. In order to ensure timely grant awards, the Secretary has decided to forego public comment on the priorities, definitions, and requirements under section 437(d)(1) of GEPA. These priorities, selection criteria, definitions and requirements will apply to the FY 2014 grant competition only.

Program Authority: 20 U.S.C. 1138-1138d.

Applicable Regulations: (a) The Education Department General Administrative Regulations (EDGAR) in 34 CFR parts 74, 75, 77, 79, 80, 82, 84, 85, 86, 97, 98, and 99. (b) The Education Department suspension and debarment regulations in 2 CFR part 3485.

Note: The regulations in 34 CFR part 79 apply to all applicants except Federally recognized Indian tribes.

Note: The regulations in 34 CFR part 86 apply to institutions of higher education only.

II. Award Information

Type of Award: Discretionary grants.

Estimated Available Funds: $75,000,000. Up to $20,000,000 is set aside for MSIs.

The range of awards listed below is the total amount for a 48 month budget period.

Estimated Range of Awards: $2,000,000-$4,000,000.

Estimated Average Size of Awards: $3,000,000.

See the Budget Instructions in the application package.

Maximum Award: We will not fund any application above the maximum award of $4,000,000 for the 48-month budget period. The Assistant Secretary for Postsecondary Education may change the maximum amount through a notice published in the Federal Register.

Estimated Number of Awards: 19-38.

Note: The Department is not bound by any estimates in this notice.

Project Period: 48 months.

III. Eligibility Information

1. Eligible Applicants: Institutions of higher education and consortia of such institutions are eligible to apply. Applicants are encouraged to partner with other public and private organizations and agencies. To be eligible for an award, an application for a FITW Development grant must be supported by a Strong Theory and include a logic model for the proposed project.

To qualify as an eligible MSI under the FITW Program, an institution must meet one of two criteria. The first criterion includes: Current eligibility approval as defined by the Department's FY 2014 eligibility process for Title III and/or Title V of the Higher Education Act of 1965, as amended; an open grant under one of the Department's Title III, Parts A and F and/or Title V programs; or a designation as a Historically Black College of University or a Tribally Controlled College. The second criterion includes: Specific enrollment percentages for minority students served; and, if applicable, needy student and educational and general (E&G) expenditure criteria for determining income eligibility. More information on MSI eligibility is in the application package under the section entitled Eligibility. The Department will screen the applications to verify MSI eligibility based on these criteria and, if applicable, will use the most recent IPEDS data. In the event an application does not qualify for MSI eligibility, it will still be reviewed.

2. Cost Sharing or Matching: This program does not require cost sharing or matching.

3. Other: We are establishing the following requirements for this program in accordance with section 437(d)(1) of GEPA, 20 U.S.C. 1232(d)(1).

Evidence Standard and Logic Model: All applications for the FITW Program must meet the evidence standard of Strong Theory and include a logic model (as defined in this notice). Applicants may submit a rationale for any intervention(s) that has not been tried or that only has been marginally considered and explored at the applicant institution or elsewhere.

Limits on Grant Awards: No applicant will receive more than one award in this FY 2014 FITW competition.

Evaluation: A grantee must comply with the requirements of any evaluation of the program conducted by the Department. In addition, the grantee must arrange for an independent evaluation of its project. The grantee and its independent evaluator must cooperate with any technical assistance provided by the Department or its contractor to ensure that the evaluations are of the highest quality and to encourage commonality in evaluation approaches across funded projects. Finally, the grantee must make broadly available through formal (e.g., peer-reviewed journals) or informal (e.g., newsletters) mechanisms, and in print or electronically, the results of any evaluations it conducts of its funded activities. These results must cite the U.S. Department's Fund for the Improvement of Postsecondary Education as the funding source.

IV. Application and Submission Information

1. Address to Request Application Package: You can obtain an application package via the Internet or from the Education Publications Center (ED Pubs).

To obtain a copy via the Internet, use the following address: www.ed.gov/fund/grant/apply/grantapp/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You also can contact ED Pubs at its Web site: www.EDPubs.gov or at its email address: edpubs@inet.ed.gov.

If you request an application from ED Pubs, be sure to identify this program as follows: CFDA number 84.116F.

Individuals with disabilities can obtain a copy of the application package in an accessible format (e.g., braille, large print, audiotape, or computer disc) by contacting the person listed in this section.

2. Content and Form of Application Submission: Requirements concerning the content of an application, together with the forms you must submit, are in the application package for this program.

Page Limit: The application narrative is where you, the applicant address the selection criteria that reviewers use to assess your application. There is a limit for the application narrative of no more than 40 pages using the following standards.

• A “page” is 8.5″ x 11″, on one side only, with 1″ margins at the top, bottom, and both sides.

Note: For purposes of determining compliance with the 40 page limit, each page on which there are words will be counted as one full page.

• Double space (no more than three lines per vertical inch) all text in the application narrative, except titles, headings, footnotes, endnotes, quotations, references, and captions. Charts, tables, figures, and graphs in the application may be single spaced.

• Use a font that is either 12 point or larger; or, no smaller than 10 pitch (characters per inch). However, you may use a 10 point font in charts, tables, figures, graphs, footnotes, and endnotes.

• Use one of the following fonts: Times New Roman, Courier, Courier New, or Arial.

The 40-page limit does not apply to Part I, the cover sheet, the table of contents; Part II, the budget section, including the narrative budget justification; Part IV, the assurances and certifications; or Abstract and Information page, the resumes (three-page limit), the citations or full studies, or letters of support.

If you include any attachments or appendices not specifically requested and required for the application, these items will be counted as part of the narrative for the purposes of the page limit.

3. Submission Dates and Times:

Applications Available: May 16, 2014.

Deadline for Transmittal of Applications: June 30, 2014.

Applications for grants under this program must be submitted electronically using the Grants.gov Apply site (Grants.gov). For information (including dates and times) about how to submit your application electronically, or in paper format by mail or hand delivery if you qualify for an exception to the electronic submission requirement, please refer to section IV.7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 29, 2014.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at www2.ed.gov/fund/grant/apply/sam-faqs.html.

In addition, if you are submitting your application via Grants.gov, you must (1) be designated by your organization as an Authorized Organization Representative (AOR), and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications

Applications for grants under the First in the World Program, CFDA number 84.116F, must be submitted electronically using the Government-wide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for First in the World Program at www.Grants.gov. You must search for the downloadable application package for this competition by the CFDA number. Do not include the CFDA number's alpha suffix in your search (e.g., search for 84.116, not 84.116F).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days; or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Frank Frankfort, First in the World, U.S. Department of Education, 1990 K Street NW., Room 6166, Washington, DC 20006-8544. FAX: (202) 502-7877.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: CFDA 84.116F, LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: CFDA 84.116F, 550 12th Street SW., Room 7039, Potomac Center Plaza, Washington, DC 20202-4260. The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210. The points assigned to each criterion are indicated in parentheses. Applicants may earn up to a total of 100 points for the selection criteria. These selection criteria serve as the template for submitting and reviewing proposals. Additional details may be found in the application package under Instructions for the Project Narrative.

The five selection criteria for grants in this competition are as follows:

A. Significance (up to 20 points).

The Secretary considers the significance of the proposed project.

In determining the significance of the proposed project, the Secretary considers the following factors:

(1) The potential contribution of the proposed project to increased knowledge or understanding of education problems, issues, or effective strategies.

(2) The extent to which the proposed project involves the development or demonstration of promising new strategies that build on, or are alternatives to, existing strategies.

(3) The potential replicability of the proposed project or strategies, including, as appropriate, the potential for implementation in a variety of settings.

Note: How the proposal meets this selection criterion should be explained in the first section of the project narrative. Applicants are encouraged to begin their narrative with a description of the major challenges in higher education, and then indicate how their proposal addresses these educational challenges. Applicants are encouraged to focus on novel and substantially different approaches to these challenges. Applicants are also encouraged to consider how their planned innovations could be replicated at other institutions. If the applicant conducts a literature review, an explanation of the review could be useful in explaining the significance of the project.

B. Quality of the Project Design (up to 30 points).

The Secretary considers the quality of the design of the proposed project.

In determining the quality of the project design, the Secretary considers the following factors:

(1) The extent to which the design of the proposed project is appropriate to, and will successfully address, the needs of the target population or other identified needs.

(2) The extent to which the proposed project represents an exceptional approach to the priority or priorities established for the competition.

(3) The extent to which there is a conceptual framework underlying the proposed research or demonstration activities and the quality of that framework.

Note: The applicant should explain how the project meets this selection criterion in the second section of the project narrative. Applicants are encouraged to define carefully the student population served, the number of students involved, and any challenges and needs that they are addressing through their project. Applicants are encouraged to describe carefully how their proposed approach is a new and substantially different way to address the selected priority. Applicants are encouraged to use the required logic model as the conceptual plan for the project. A simple logic model could be organized in four parts: Inputs, Activities, Outcomes, and Timelines. Inputs refer to all the resources to conduct the project. Activities are interventions that will be measured on multiple occasions. Outcomes refer to results derived from measuring and analyzing activities and interventions. A timeline indicates when an intervention takes place.

C. Adequacy of Resources (up to 15 points).

The Secretary considers the adequacy of resources for the proposed project.

In determining the adequacy of resources for the proposed project, the Secretary considers the following factors:

(1) The adequacy of support, including facilities, equipment, supplies, and other resources, from the applicant organization or the lead applicant organization.

(2) The extent to which the costs are reasonable in relation to the objectives, design, and potential significance of the proposed project.

Note: The applicant should explain how the project meets this selection criterion in the third section of the project narrative. Applicants are encouraged to describe the resources and capacity of the institution to conduct a successful project, for example, through letters of commitment. Letters must be appended to the application under Other Attachments. Additionally, applicants are encouraged to describe how the requested funds are reasonable in relation to the complexity and scale of the project.

D. Quality of Project Personnel (up to 15 points).

The Secretary considers the quality of the personnel who will carry out the proposed project.

In determining the quality of project personnel for the proposed project, the Secretary considers the following factors:

(1) The qualifications, including relevant training and experience, of the project director or principal investigator.

(2) The qualifications, including relevant training and experience, of key project personnel.

(3) The qualifications, including relevant training and experience, of project consultants or subcontractors.

Note: The applicant should explain how the project meets this selection criterion in the fourth section of the project narrative. Applicants are encouraged to select a project director who is well acquainted with the institution and experienced in executing large and complex projects. A resume for the project director is required. Applicants are encouraged to address the qualifications of other key personnel. Applicants are encouraged to select a project consultant to serve as an evaluator who is independent of the project, has appropriate credentials, and has experience in survey design and statistical analysis. A resume for the project consultant is required.

E. Quality of the Project Evaluation (up to 20 points).

The Secretary considers the quality of the evaluation to be conducted of the proposed project.

In determining the quality of the evaluation, the Secretary considers the following factors:

(1) The extent to which the goals, objectives, and outcomes to be achieved by the proposed project are specified and measurable.

(2) The extent to which the methods of evaluation will, if well implemented, produce evidence about the project's effectiveness that would meet the What Works Clearinghouse Evidence Standards without reservations. The link for the What Works Clearinghouse Procedures and Standards Handbook (Version 2.1, September 2011), can be found at: http://ies.ed.gov/ncee/wwc/references/idocviewer/doc.aspx?docid=19&tocid=1.

(3) The extent to which the methods of evaluation will, if well implemented, produce evidence about the project's effectiveness that would meet the What Works Clearinghouse Evidence Standards with reservations. The link for the What Works Clearinghouse Procedures and Standards Handbook (Version 2.1, September 2011), can be found at: http://ies.ed.gov/ncee/wwc/references/idocviewer/doc.aspx?docid=19&tocid=1.

(4) The extent to which the methods of evaluation will provide performance feedback and permit periodic assessment of progress toward achieving intended outcomes.

Note: The applicant should explain how the project meets this selection criterion in the last section of the project narrative. Because FITW is an evidence-based program and may inform and guide the project work, the evaluation plan for your FITW project is very important. Applicants are encouraged to have a firm understanding of the Moderate Evidence of Effectiveness standard (as defined in this notice). It is also important to explain how the evaluation plan will guide and inform the project work.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

For FITW grant applications the Department intends to conduct a two-tier review process to review and score all eligible applications. Reviewers will review and score all eligible applications on the following four selection criteria: A. Significance; B. Quality of the Project Design; C. Adequacy of Resources; and D. Quality of Project Personnel. Eligible applications that score highly on these four selection criteria will have the remaining criterion, E. Quality of the Project Evaluation, reviewed and scored by a different panel of peer reviewers with evaluation expertise. Highly rated applications from this two-tier review process that also address the competitive preference priority will then have their supporting studies reviewed by the Department's Institute for Education Sciences (IES) and by the FITW program. An application will receive two extra points if at least one of the cited studies meets the Evidence of Promise standard and is relevant to the proposed project.

In cases where two or more applications have the same final score in the rank order listing, and there are insufficient funds to fully support these both applications, the Department will consider an equitable distribution of grants among geographic locations.

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

To ensure that the Federal investment of these funds has as broad an impact as possible and to encourage innovation in the development of new learning materials, FITW grantees will be required to license to the public all intellectual property (except for computer software source code, discussed below) created with the support of grant funds, including both new content created with grant funds and modifications made to pre-existing, grantee-owned content using grant funds. That license must be worldwide, non-exclusive, royalty-free, perpetual, irrevocable, and grant the public permission to access, reproduce, publicly perform, publicly display, adapt, distribute, and otherwise use the intellectual property referenced above (except for computer software source code, discussed below) for any purposes, conditioned only on the requirement that attribution be given to authors as designated. Further, the Department requires that all computer software source code developed or created with FITW funds will be released under an intellectual property license that allows others to freely use and build upon them.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department will use the following performance measures in assessing the successful performance of FIPSE's FITW grants:

(1) The extent to which funded projects are replicated (i.e., adopted or adapted by others).

(2) The extent to which projects are institutionalized and continued after funding.

(3) The extent to which the metrics used to assess and evaluate project results measure performance under the absolute priority the project is designed to address.

(4) The percentage of projects supported by FITW grants that produce evidence of their effectiveness at improving student outcomes and college affordability, especially for low-income students.

(5) The percentage of projects supported by FITW grants that provide high-quality implementation data and performance feedback that allow for periodic assessment of progress toward achieving intended outcomes.

(6) The cost per student served by FITW grants.

(7) The cost per successful student outcome.

If funded, you will be asked to collect and report data from your project on steps taken toward achieving the outcomes evaluated by these performance measures. Consequently, applicants are advised to include these outcomes in conceptualizing the design, implementation, and evaluation of their proposed projects. Replication, institutionalization, and accurate data are important outcomes that ensure the ultimate success of projects funded under this program.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Frank Frankfort, U.S. Department of Education, 1990 K Street NW., Room 6166, Washington, DC 20006-8544. Telephone: 202-502-7500. You may send emails to OPEFirstintheWorld@ed.gov.

If you use a TDD or a TTY, call the Federal Relay Service, toll free, at 1-800-877-8339.

VIII. Other Information

Accessible Format: Individuals with disabilities can obtain this document and a copy of the application package in an accessible format (e.g., braille, large print, audiotape, or computer disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

You can also view this document in text or PDF at the following site: www.ed.gov/fipse.

Dated: May 14, 2014.
Lynn B. Mahaffie,
Senior Director, Policy Coordination, Development, and Accreditation Service, delegated the authority to perform the functions and duties of the Assistant Secretary for Postsecondary Education.

[FR Doc. 2014-11463 Filed 5-15-14; 8:45 am]

BILLING CODE 4000-01-P